DEPARTMENT OF HEALTH AND HUMAN SERVICES

Food and Drug Administration

[Docket No. FDA-2009-N-0667]

[FDA 225-09-0013]

Memorandum of Understanding Between the Food and Drug Administration and Waterfront Media

AGENCY: Food and Drug Administration, HHS.

ACTION: Notice.

SUMMARY: The Food and Drug Administration (FDA) is providing notice of a memorandum of understanding (MOU) between FDA and Waterfront Media. The purpose of the MOU is to extend the reach of FDA Consumer Health Information and to provide consumers with better information and timely content concerning public health and safety topics, including alerts of emerging safety issues and product recalls.

DATES: The agreement became effective October 14, 2009.

FOR FURTHER INFORMATION CONTACT: Jason Brodsky, Consumer Health Information Staff, Office of External Relations (HFI-40), Food and Drug Administration, 5600 Fishers Lane, Rockville, MD 20857, 301-827-6251, e-mail: Jason.Brodsky@fda.hhs.gov.

SUPPLEMENTARY INFORMATION: In accordance with 21 CFR 20.108(c), which states that all written agreements and MOUs between FDA and others shall be published in the Federal Register, the agency is publishing notice of this MOU.

Dated: November 12, 2009.
David Horowitz,
Assistant Commissioner for Policy.

BILLING CODE 4160-01-S

[FR Doc. E9-27630 Filed 11-17-09; 8:45 am]

BILLING CODE 4160-01-C